DEPARTMENT OF EDUCATION

Application for New Awards; Native American and Alaska Native Children in School Program

AGENCY: Office of English Language Acquisition, Department of Education.

ACTION: Notice.

SUMMARY: The Department of Education (Department) is issuing a notice inviting applications for fiscal year (FY) 2023 for the Native American and Alaska Native Children in School (NAM) Program, Assistance Listing Number 84.365C. This notice relates to the approved information collection under OMB control number 1894-0006.

DATES:

Applications Available: February 9, 2023.

Deadline for Notice of Intent to Apply: February 24, 2023.

Deadline for Transmittal of Applications: April 25, 2023.

Deadline for Intergovernmental Review: June 26, 2023.

ADDRESSES: For the addresses for obtaining and submitting an application, please refer to our Common Instructions for Applicants to Department of Education Discretionary Grant Programs, published in the Federal Register on December 7, 2022 (87 FR 75045), and available at https://www.federalregister.gov/documents/2022/12/07/2022-26554/common-instructions-for-applicants-to-department-of-education-discretionary-grant-programs. Please note that these Common Instructions supersede the version published on December 27, 2021.

FOR FURTHER INFORMATION CONTACT: Celeste McLaughlin, U.S. Department of Education, 400 Maryland Avenue SW, Washington, DC 20202. Telephone: (202) 245-7693. Email: NAM@ed.gov.

If you are deaf, hard of hearing, or have a speech disability and wish to access telecommunications relay services, please dial 7-1-1.

SUPPLEMENTARY INFORMATION:

Full Text of Announcement

I. Funding Opportunity Description

Purpose of Program: The purpose of the NAM program is to award grants to eligible entities to develop and enhance capacity to provide effective instruction and support to Native American and Alaska Native students, including Native Hawaiian and Native American Pacific Islander students, who are identified as English learners (ELs). The goal of this program is to support the teaching, learning, and studying of Native American languages while also increasing the English language proficiency and academic achievement of students served.

Background: Through previous competitions, the NAM program has funded a range of grantees that are currently implementing 16 projects across the country. As we are focused on closing long-standing opportunity, achievement, and attainment gaps that have continued to grow, there is also a need to increase the knowledge of what practices work to effectively improve learning outcomes for Native American and Alaska Native ELs.

Congress, in the Native American Languages Act of 1990, recognized the fundamental importance of preserving Native American languages. This legislation provides that it is the policy of the United States to—

Preserve, protect, and promote the rights and freedom of Native Americans to use, practice, and develop Native American languages.

25 U.S.C. 2903(1)

In addition, the legislation states that it is the policy of the United States to encourage and support the use of Native American languages as a medium of instruction in order to encourage and support—

(A) Native American language survival,

(B) Educational opportunity,

(C) Increased student success and performance,

(D) Increased student awareness and knowledge of their culture and history, and

(E) Increased student and community pride.

25 U.S.C. 2903(3)

This Federal policy is supported by growing recognition of the importance of Native language preservation in facilitating education success for Native students. In a 2007 study by Teachers of English to Students of Other Languages (TESOL), the majority of Native youth surveyed stated that they value their Native language, view it as integral to their sense of self, want to learn it, and view it as a means of facilitating their success in school and life.¹ Collaborative efforts between educators, families, and communities, the study suggests, may be especially promising ways to ensure that all Native students have the critical opportunity to learn their Native languages.

¹ Romero-Little, M.E., McCarty, T.L., Warhol, L., and Zepeda, O. (2007). Language policies in practice: Preliminary findings from a large-scale study of Native American language shift. TESOL Quarterly 41:3, 607-618.

Not only is Native language instruction critical for student engagement and fostering a rich sense of self, but research has shown that students who are bilingual have certain cognitive and social benefits that their monolingual peers may lack.² Additionally, for students who are classified as ELs, well-implemented language instruction educational programs (as defined in this notice), including dual language approaches, may result in ELs performing equal to or better than their peers in English-only language instruction programs. These approaches have shown promise in increasing language acquisition in English and Native languages and may also promote greater achievement in the academic content areas, including English language arts and mathematics.³

² Valentino, R.A., and Reardon, S.F. (2015). Effectiveness of four instructional programs designed to serve English language learners: Variation by ethnicity and initial English proficiency. Educational Evaluation and Policy Analysis, doi: 10.3102/0162373715573310.

³ Lindholm-Leary, K.J. (2001). Dual-language education (Vol. 28). Multilingual Matters.

Therefore, to facilitate high-quality language instruction and academic success for Native American and Alaska Native students who are classified as ELs, this competition includes an absolute priority for projects that will support the preservation and revitalization of Native American languages while also increasing the English language proficiency of the children served under the project.

The Department is also interested in supporting projects that promote school readiness of English learners in early learning environments. Transitions from early childhood education programs are most successful when ELs have appropriate supports, and we believe projects with a focus in this area will advance efforts to increase the field's understanding of how these transitional phases function for ELs. In addition, the Department is interested in supporting projects that establish partnerships between eligible entities and local partners working together to promote and elevate the value of multilingualism.

In order to encourage and promote the use of strategies that are likely to improve project outcomes for Native American and Alaska Native ELs, we include a selection criterion for applicants to describe the extent to which their proposed project designs are supported by a logic model that connects key project components to outcomes relevant to the program's purpose. Additionally, the Department has established performance measures for this program for the purpose of reporting under 34 CFR 75.110. We advise an applicant for a grant under this program to carefully consider these measures in conceptualizing the approach to, and evaluation for, its proposed project. Each grantee will be required to provide, in its annual performance and final reports, data about its progress in meeting these measures. Such evaluations help ensure that projects contribute to expanding the knowledge base on effective language instruction educational programs, including dual language practices, that prepare Native American and Alaska Native ELs to achieve college, career, and life success.

Priorities: This notice includes an absolute priority, one competitive preference priority, and one invitational priority. The absolute priority is from section 3127 of the Elementary and Secondary Education Act of 1965 (ESEA) (20 U.S.C. 6848). The competitive preference priority is from the Department's notice of final supplemental priorities and definitions (Supplemental Priorities), published in the Federal Register on December 10, 2021 (86 FR 70612).

Absolute Priority: For FY 2023, and any subsequent year in which we make awards from the list of unfunded applications from this competition, this priority is an absolute priority. Under 34 CFR 75.105(c)(3) we consider only applications that meet this priority.

This priority is:

Projects that support the teaching, learning, and studying of Native American languages while also increasing the English language proficiency of the children served.

Competitive Preference Priority: For FY 2023 and any subsequent year in which we make awards from the list of unfunded applications from this competition, this priority is a competitive preference priority. Under 34 CFR 75.105(c)(2)(i), we award up to an additional 5 points to an application, depending on how well the application meets the competitive preference priority.

This priority is:

Competitive Preference Priority—Promoting Equity in Student Access to Educational Resources, Opportunities, and Welcoming Environments (up to 5 points).

To meet this priority, applicants must propose projects designed to promote educational equity and adequacy in resources and opportunity for underserved students in early learning programs that examine the sources of inequity and inadequacy and implement responses, and that include establishing, expanding, or improving learning environments for multilingual learners, and increasing public awareness about the benefits of fluency in more than one language and how the coordination of language development in the school and the home improves student outcomes for multilingual learners.

Invitational Priority: For FY 2023 and any subsequent years in which we make awards from the list of unfunded applications from this competition, this priority is an invitational priority. Under 34 CFR 75.105(c)(1) we do not give an application that meets an invitational priority a competitive or absolute preference over other applications.

This priority is:

Strengthening Cross-Agency Coordination and Community Engagement to Advance Native American Languages While Increasing English Language Proficiency.

Under this invitational priority, we encourage applicants to propose a project that is designed to address the following priority area: Establishing partnerships between eligible entities and local partners working together to promote and elevate the teaching, learning, and studying of Native American languages while also increasing the English language proficiency and academic achievement of students served.

Definitions: The following definitions are from 34 CFR 77.1 and sections 3201 and 8101 of the ESEA (20 U.S.C. 7011 and 7801) and apply to the priorities, selection criteria, and performance measures in this notice. The source of each definition is noted in parentheses following the text of the definition.

Ambitious means promoting continued, meaningful improvement for program participants or for other individuals or entities affected by the grant, or representing a significant advancement in the field of education research, practices, or methodologies. When used to describe a performance target, whether a performance target is ambitious depends upon the context of the relevant performance measure and the baseline for that measure. (34 CFR 77.1)

Baseline means the starting point from which performance is measured and targets are set. (34 CFR 77.1)

Demonstrates a rationale means a key project component included in the project's logic model is informed by research or evaluation findings that suggest the project component is likely to improve relevant outcomes. (34 CFR 77.1)

English learner, when used with respect to an individual, means an individual—

(A) Who is aged 3 through 21;

(B) Who is enrolled or preparing to enroll in an elementary school or secondary school;

(C)(i) Who was not born in the United States or whose Native language is a language other than English;

(ii)(I) Who is a Native American or Alaska Native, or a Native resident of the outlying areas; and

(II) Who comes from an environment where a language other than English has had a significant impact on the individual's level of English language proficiency; or

(iii) Who is migratory, whose Native language is a language other than English, and who comes from an environment where a language other than English is dominant; and

(D) Whose difficulties in speaking, reading, writing, or understanding the English language may be sufficient to deny the individual—

(i) The ability to meet the State's challenging State academic standards;

(ii) The ability to successfully achieve in classrooms where the language of instruction is English; or

(iii) The opportunity to participate fully in society. (Section 8101 of the ESEA)

Language instruction educational program means an instruction course—

(A) In which an English learner is placed for the purpose of developing and attaining English proficiency, while meeting challenging State academic standards; and

(B) That may make instructional use of both English and a child's Native language to enable the child to develop and attain English proficiency, and may include the participation of English proficient children if such course is designed to enable all participating children to become proficient in English and a second language. (Section 3201 of the ESEA)

Logic model (also referred to as a theory of action) means a framework that identifies key project components of the proposed project (i.e., the active “ingredients” that are hypothesized to be critical to achieving the relevant outcomes) and describes the theoretical and operational relationships among the key project components and relevant outcomes. (34 CFR 77.1)

Note: Applicants may use resources such as the Pacific Education Laboratory's Education Logic Model Application (https://ies.ed.gov/ncee/edlabs/regions/pacific/elm.asp or https://eric.ed.gov/?id=ED544752) to help design their logic models.

Native Hawaiian or Native American Pacific Islander Native language educational organization means a nonprofit organization with—

(A) A majority of its governing board and employees consisting of fluent speakers of the traditional Native American languages used in the organization's educational programs; and

(B) Not less than 5 years successful experience in providing educational services in traditional Native American languages. (Section 3201 of the ESEA)

Performance target means a level of performance that an applicant would seek to meet during the course of a project or as a result of a project. (34 CFR 77.1)

Project component means an activity, strategy, intervention, process, product, practice, or policy included in a project. Evidence may pertain to an individual project component or to a combination of project components (e.g., training teachers on instructional practices for English learners and follow-on coaching for these teachers). (34 CFR 77.1)

Relevant outcome means the student outcome(s) or other outcome(s) the key project component is designed to improve, consistent with the specific goals of the program. (34 CFR 77.1)

Tribally Sanctioned Educational Authority means

(A) any department or division of education operating within the administrative structure of the duly constituted governing body of an Indian tribe; and

(B) any nonprofit institution or organization that is—

(i) chartered by the governing body of an Indian tribe to operate a school described in section 3112(a) of the ESEA or otherwise to oversee the delivery of educational services to members of the tribe; and

(ii) approved by the Secretary for the purpose of carrying out programs under subpart 1 of part A of the ESEA for individuals served by a school described in section 3112(a) of the ESEA. (Section 3201 of the ESEA).

Program Authority: 20 U.S.C. 6822.

Applicable Regulations: (a) The Education Department General Administrative Regulations in 34 CFR parts 75, 77, 79, 81, 82, 84, 86, 97, 98, and 99. (b) The Office of Management and Budget Guidelines to Agencies on Government-wide Debarment and Suspension (Nonprocurement) in 2 CFR part 180, as adopted and amended as regulations of the Department in 2 CFR part 3485. (c) The Uniform Administrative Requirements, Cost Principles, and Audit Requirements for Federal Awards in 2 CFR part 200, as adopted and amended in 2 CFR part 3474. (d) The Supplemental Priorities.

Note: The regulations in 34 CFR part 79 apply to all applicants except federally recognized Indian Tribes.

Note: The regulations in 34 CFR part 86 apply to institutions of higher education (IHEs) only.

II. Award Information

Type of Award: Discretionary grants.

Estimated Available Funds: $2,100,000.

Estimated Range of Awards: $275,000-325,000 per year.

Estimated Average Size of Awards: $300,000.

Estimated Number of Awards: 7.

Note: The Department is not bound by any estimates in this notice.

Project Period: Up to 60 months.

III. Eligibility Information

1. Eligible Applicants: The following entities, when they operate elementary, secondary, or postsecondary schools predominately for Native American children (including Alaska Native children), are eligible applicants under this program:

(a) Indian Tribes.

(b) Tribally sanctioned educational authorities.

(c) Native Hawaiian or Native American Pacific Islander Native language educational organizations.

(d) Elementary schools or secondary schools that are operated or funded by the Department of the Interior's Bureau of Indian Education, or a consortium of these schools.

(e) Elementary schools or secondary schools operated under a contract with or grant from the Bureau of Indian Education in consortium with another such school or a Tribal or community organization.

(f) Elementary schools or secondary schools operated by the Bureau of Indian Education and an IHE, in consortium with an elementary school or secondary school operated under a contract with or a grant from the Bureau of Indian Education or a Tribal or community organization.

Note: Eligible applicants applying as a consortium should read and follow the regulations in 34 CFR 75.127 through 75.129.

Under section 3112(c) of the ESEA, EL students served under NAM grants must not be included in the child count submitted by a school district under ESEA section 3114(a) for purposes of receiving funding under the English Language Acquisition State Grants program.

2. a. Cost Sharing or Matching: This program does not require cost sharing or matching.

b. Supplement-Not-Supplant: This competition involves supplement-not-supplant funding requirements. As specified in section 3115(g) of the ESEA, funds awarded under this program are required to be used to supplement the level of Federal, State, and local public funds that, in the absence of such availability, would have been expended for programs for English learners and in no case to supplant such Federal, State, and local public funds.

c. Indirect Cost Rate Information: This program uses a restricted indirect cost rate. For more information regarding indirect costs, or to obtain a negotiated indirect cost rate, please see https://www2.ed.gov/about/offices/list/ocfo/intro.html.

3. Subgrantees: A grantee under this competition may not award subgrants to entities to directly carry out project activities described in its application.

4. Equitable Participation by Private School Students and Educational Personnel in an ESEA Title III Program: An entity that receives a grant under the NAM program must provide for the equitable participation of private school children and their teachers or other educational personnel. To ensure that grant program activities address the needs of private school children, the applicant must engage in timely and meaningful consultation with appropriate private school officials during the design and development of the program. This consultation must take place before the applicant makes any decision that affects the opportunities for participation by eligible private school children, teachers, and other educational personnel. Administrative direction and control over grant funds must remain with the grantee. (See section 8501 of the ESEA, Participation by Private School Children and Teachers.)

IV. Application and Submission Information

1. Application Submission Instructions: Applicants are required to follow the Common Instructions for Applicants to Department of Education Discretionary Grant Programs, published in the Federal Register on December 7, 2022 (87 FR 75045), and available at https://www.federalregister.gov/documents/2022/12/07/2022-26554/common-instructions-for-applicants-to-department-of-education-discretionary-grant-programs, which contain requirements and information on how to submit an application. Please note that these Common Instructions supersede the version published on December 27, 2021.

2. Intergovernmental Review: This competition is subject to Executive Order 12372 and the regulations in 34 CFR part 79. Information about Intergovernmental Review of Federal Programs under Executive Order 12372 is in the application package for this competition.

3. Funding Restrictions: We reference regulations outlining funding restrictions in the Applicable Regulations section of this notice.

4. Recommended Page Limit: The application narrative is where you, the applicant, address the selection criteria that reviewers use to evaluate your application. We recommend that you (1) limit the application narrative to no more than 70 pages and (2) use the following standards:

• A “page” is 8.5″ x 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to the cover sheet; the budget section, including the narrative budget justification; the assurances and certifications; or the abstract (follow the guidance provided in the application package for completing the abstract), the table of contents, the list of priority requirements, the resumes, the reference list, the letters of support, or the appendices. However, the recommended page limit does apply to all of the application narrative, including all text in charts, tables, figures, graphs, and screen shots.

V. Application Review Information

1. Selection Criteria: The selection criteria for this competition are from 34 CFR 75.210. The maximum score for all of these criteria is 100 points. The maximum score for each criterion is indicated in parentheses.

(a) Quality of the project design. (Up to 40 points)

The Secretary considers the quality of the design of the proposed project. In determining the quality of the design of the proposed project, the Secretary considers the following factors:

(1) The extent to which the goals, objectives, and outcomes to be achieved by the proposed project are clearly specified and measurable.

(2) The extent to which the design for implementing and evaluating the proposed project will result in information to guide possible replication of project activities or strategies, including information about the effectiveness of the approach or strategies employed by the project.

(3) The extent to which the proposed project demonstrates a rationale (as defined in this notice).

(b) Quality of project personnel. (Up to 10 points)

The Secretary considers the quality of the personnel who will carry out the proposed project. In determining the quality of project personnel, the Secretary considers the following factors:

(1) The extent to which the applicant encourages applications for employment from persons who are members of groups that have traditionally been underrepresented based on race, color, national origin, gender, age, or disability.

(2) The qualifications, including relevant training and experience, of key project personnel.

(c) Quality of the management plan. (Up to 30 points)

The Secretary considers the quality of the management plan for the proposed project. In determining the quality of the management plan for the proposed project, the Secretary considers the following factors:

(1) The adequacy of the management plan to achieve the objectives of the proposed project on time and within budget, including clearly defined responsibilities, timelines, and milestones for accomplishing project tasks.

(2) The extent to which the time commitments of the project director and principal investigator and other key project personnel are appropriate and adequate to meet the objectives of the proposed project.

(d) Quality of the project evaluation. (Up to 20 points)

The Secretary considers the quality of the evaluation to be conducted of the proposed project. In determining the quality of the evaluation, the Secretary considers the following factors:

(1) The extent to which the methods of evaluation are thorough, feasible, and appropriate to the goals, objectives, and outcomes of the proposed project.

(2) The extent to which the methods of evaluation will provide performance feedback and permit periodic assessment of progress toward achieving intended outcomes.

2. Review and Selection Process: We remind potential applicants that, in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department (34 CFR 100.4, 104.5, 106.4, 108.8, and 110.23).

The Department will screen applications that are submitted for NAM grants in accordance with the requirements in this notice and determine which applications meet the eligibility and other requirements. Peer reviewers will review all eligible applications for NAM grants that are submitted by the established deadline on the four selection criteria.

Applicants should note, however, that we may screen for eligibility at multiple points during the competition process, including before and after peer review; applicants that are determined to be ineligible will not receive a grant award regardless of peer reviewer scores or comments. If we determine that a NAM grant application does not meet a NAM eligibility requirement, the application will not be considered for funding.

3. Risk Assessment and Special Conditions: Consistent with 2 CFR 200.206, before awarding grants under this competition the Department conducts a review of the risks posed by applicants. Under 2 CFR 200.208, the Secretary may impose special conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management (SAM). You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to https://www2.ed.gov/fund/grant/apply/appforms/appforms.html. Under 34 CFR 75.250(b), the Secretary may provide a grantee with additional funding for data collection, analysis, and reporting. In this case the Secretary establishes a data collection period.

5. Performance Measures: The Department has developed the following performance measures for evaluating the overall effectiveness of the NAM program and for Department reporting under 34 CFR 75.110:

(a) Measures.

• Measure 1: The number and percentage of ELs served by the project who score proficient or above on the State reading assessment.

• Measure 2: The number and percentage of ELs served by the project who have attained proficiency in English as measured by the State-approved English language proficiency assessment.

• Measure 3: The number and percentage of students participating in the Native language program who are making progress in learning a Native language, as determined by each grantee, including through measures such as performance tasks, portfolios, and pre- and post-tests.

(b) Baseline data. Applicants must provide baseline data for each of the performance measures listed in paragraph (a) and include why each proposed baseline is valid; or, if the applicant has determined that there are no established baseline data for a particular performance measure, explain why there is no established baseline and explain how and when, during the project period, the applicant will establish a valid baseline for the performance measure.

(c) Performance measure targets. In addition, the applicant must propose in its application annual targets for the measures listed in paragraph (a). Applications must also include the following information as directed under 34 CFR 75.110(b) and (c):

(1) Why each proposed performance target (as defined in this notice) is ambitious (as defined in this notice) yet achievable compared to the baseline for the performance measure.

(2) The data collection and reporting methods the applicant would use and why those methods are likely to yield reliable, valid, and meaningful performance data.

(3) The applicant's capacity to collect and report reliable, valid, and meaningful performance data, as evidenced by high-quality data collection, analysis, and reporting in other projects or research.

Note: If the applicant does not have experience with collection and reporting of performance data through other projects or research, the applicant should provide other evidence of capacity to successfully carry out data collection and reporting for its proposed project.

(d) Performance reports. All grantees must submit an annual performance report and final performance report with information that is responsive to these performance measures. The Department will consider these data in making annual continuation awards.

(1) The performance reports for all NAM 2023 grantees must include the following project performance data (34 CFR 75.253, 75.590, 75.591, and 75.720):

• The number of students who are eligible to participate in the program.

• The number of participants in the program.

• The number of participants who met the performance targets.

(e) Department evaluations. Consistent with 34 CFR 75.591, grantees funded under this program must comply with the requirements of any evaluation of the program conducted by the Department or an evaluator selected by the Department.

6. Continuation Awards: In making a continuation award under 34 CFR 75.253, the Secretary considers, among other things, whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Montserrat Garibay,
Acting Assistant Deputy Secretary and Director, Office of English Language Acquisition.

[FR Doc. 2023-02736 Filed 2-8-23; 8:45 am]

BILLING CODE 4000-01-P